NATIONAL ARCHIVES AND RECORDS ADMINISTRATION

[NARA-2015-028]

Office of Government Information Services (OGIS); Freedom of Information Act (FOIA) Advisory Committee; Meeting

AGENCY: National Archives and Records Administration (NARA).

ACTION: Notice of Federal Advisory Committee Meeting.

SUMMARY: In accordance with the Federal Advisory Committee Act (5 U.S.C. App) and the second United States Open Government National Action Plan (NAP) released on December 5, 2013, NARA announces an upcoming Freedom of Information Act (FOIA) Advisory Committee meeting.

DATES: The meeting will be on April 21, 2015, from 10:00 a.m. to 1:00 p.m. EDT. You must register for the meeting by 5:00 p.m. EDT on April 20, 2015.

Location: National Archives and Records Administration (NARA); 700 Pennsylvania Avenue NW.; Archivist's Reception Room (Room 105); Washington, DC 20408.

FOR FURTHER INFORMATION CONTACT: Christa Lemelin, Designated Federal Officer for this committee, by mail at National Archives and Records Administration; Office of Government Information Services; 8601 Adelphi Road—OGIS; College Park, MD 20740-6001, by telephone at 202-741-5773, or by email at Christa.Lemelin@nara.gov.

SUPPLEMENTARY INFORMATION: Agenda and meeting materials: You may find all meeting materials at https://ogis.archives.gov/foia-advisory-committee/meetings.htm. The purpose of this meeting is to discuss the FOIA issues on which the Committee is focusing its efforts: oversight and accountability, proactive disclosures, and fees.

Procedures: The meeting is open to the public. Due to space limitations and access procedures, you must register in advance if you wish to attend the meeting. You will also go through security screening when you enter the building. Seating in the meeting room is limited and will be available on a first-come, first-served basis. Registration for the meeting will go live via Eventbrite on April 6, 2015, at 10:00 a.m. EDT. To register for the meeting, please do so at this Eventbrite link: http://www.eventbrite.com/e/freedom-of-information-act-foia-advisory-committee-meeting-registration-15555361505. Members of the media who wish to register, those who are unable to register online, and those who require special accommodations, should contact Christa Lemelin at the phone number, mailing address, or email address listed above.

Dated: February 12, 2015.
Donna M. Garland,
Chief Strategy and Communications Officer.

[FR Doc. 2015-03364 Filed 2-17-15; 8:45 am]

BILLING CODE 7515-01-P